DEPARTMENT OF LABOR

Employment and Training Administration

[TA-W-56,732]

Eaton; Everett, WA; Notice of Termination of Investigation

Pursuant to Section 221 of the Trade Act of 1974, as amended, an investigation was initiated on March 10, 2005 in response to a petition filed by a company official on behalf of workers at Eaton, Everett, Washington.

The petitioner has requested that the petition be withdrawn. Consequently, the investigation has been terminated.

Signed at Washington, DC, this 24th day of March, 2005.
Richard Church,
Certifying Officer, Division of Trade Adjustment Assistance.

[FR Doc. E5-1530 Filed 4-4-05; 8:45 am]

BILLING CODE 4510-30-P